DEPARTMENT OF COMMERCE

Economic Development Administration

Notice of Petitions by Producing Firms for Determination of Eligibility To Apply for Trade Adjustment Assistance

AGENCY: Economic Development Administration (EDA), Commerce.

ACTION: To give firms an opportunity to comment.

Petitions have been accepted for filing on the dates indicated from the firms listed below.

List of Petition Action by Trade Adjustment Assistance for Period August 16, 2000-September 22, 2000
Firm name | Address | Date petition accepted | Product
American Coat & Pad Company | 1220 Curtain Avenue, Baltimore, MD 21218 | 28-Aug-2000 | Coat and shoulder padding.
Eastham Forge, Inc | 1055 Archie Street, Beaumont, Texas 77701 | 28-Aug-2000 | Forged valve parts for oilfield wellhead equipment.
Byer Manufacturing Co., Inc. (The) | 74 Mill Street, Orono, ME 04473 | 30-Aug-2000 | Camp and casual folding furniture of wood and canvas—cots, chairs, stools, loungers & tables.
Henges Manufacturing, L.L.C | 12100 Prichard Farm Rd., Maryland Hts., MO 63043 | 01-Sep-2000 | Pre-fabricated buildings, primarily used within an existing warehouse or manufacturing plant.
Hagale Industries, Inc | 601 East South Street, Ozark, MO 65721 | 01-Sep-2000 | Men's shirts and trousers.
Great Western Inorganics, Inc | 17400 Highway 72, Arvada, CO 80007 | 15-Sep-2000 | Iron sulfide and bromide.
Ameritex Yarn, L.L.C | 840 Plantation Drive, Burlington, NC 27215 | 15-Sep-2000 | Cotton yarn.
Jack Georges, Inc | 823 Main Avenue, Passaic, NJ 07055 | 15-Sep-2000 | Leather business cases and accessories.
Century Engineering Co., Inc | 4 Orono Street, Clifton, NJ 07015 | 20-Sep-2000 | Industrial and commercial machinery used for cleaning, deburring, plating nodule removal, surface prep. and general panel scrubbing for glass, plastic and metal.
IEC Corporation | 3100 Longhorn Blvd., Austin, Texas 78758 | 22-Sep-2000 | Slip ring assemblies used as electrical conductors.
Bay Area, Inc., dba Valley Sawmill | 10600 Cordova, Anchorage, AK 99515 | 22-Sep-2000 | Heavy timber, dimensional lumber, wood chips and sawdust.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: September 20, 2000.
Anthony J. Meyer,
Coordinator, Trade Adjustment and Technical Assistance.

[FR Doc. 00-24895 Filed 9-27-00; 8:45 am]

BILLING CODE 3510-24-P